DEPARTMENT OF THE INTERIOR

Fish and Wildlife Service

Endangered and Threatened Wildlife and Plants; Draft Post-Delisting Monitoring Plan for the Bald Eagle (Haliaeetus leucocephalus) and Proposed Information Collection

AGENCY: Fish and Wildlife Service, Interior.

ACTION: Notice of availability of draft post-delisting monitoring plan; request for comments.

SUMMARY: We, the U.S. Fish and Wildlife Service (Service), announce the availability of the draft post-delisting monitoring plan (draft PDM Plan) for the bald eagle (Haliaeetus leucocephalus). The Endangered Species Act (ESA) requires that the Service implement a system, in cooperation with the States, to monitor effectively for at least 5 years, the status of all species that have been recovered and no longer need protection of the ESA. The bald eagle in the contiguous 48 states will be removed from the Federal List of Threatened and Endangered Wildlife and Plants (delisted) due to recovery. We are publishing the final rule for the delisting simultaneously with this notice elsewhere in today's Federal Register. We will also ask the Office of Management and Budget (OMB) to approve the information collection (IC) for the draft PDM Plan described below.

DATES: Comments from all interested parties on the draft bald eagle post-delisting monitoring plan must be received on or before October 9, 2007.

You must submit comments regarding the information collection aspects of the draft bald eagle post-delisting monitoring plan on or before October 9, 2007.

ADDRESSES: The draft PDM Plan may be downloaded from our Web site at http://www.fws.gov/midwest/Endangered. To request a copy of the draft PDM Plan, write to our Rock Island Field Office: U.S. Fish and Wildlife Service, 1511 47th Avenue, Moline, Illinois 61265; or call 309-757-5800 to receive a copy. You may also send an e-mail request to baldeaglePDM@fws.gov. Specify whether you want to receive a hard copy by U.S. mail or an electronic copy by e-mail.

Send your comments by any of the following methods. See “Viewing Documents” and “Public Comments Solicited” under SUPPLEMENTARY INFORMATION for important information.

• Mail: Bald Eagle Draft PDM Plan Comments, U.S. Fish and Wildlife Service, Rock Island Field Office, 1511 47th Avenue, Moline, Illinois 61265.

• Hand Delivery/Courier: Same address as above.

• E-mail: baldeaglePDM@fws.gov. Include “Bald Eagle Draft PDM Plan Comments” in the subject line of the message.

• Fax: 309-757-5807. Include “Bald Eagle Draft PDM Plan Comments” in the subject line.

• Federal eRulemaking Portal: http://www.regulations.gov. Follow the instructions for submitting comments.

Send your comments on the information collection to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: Direct all questions or requests for additional information about the draft PDM Plan to Jody Millar (see ADDRESSES). To request additional information about this information collection, contact Hope Grey (see ADDRESSES). Individuals who are hearing-impaired or speech-impaired may call the Federal Relay Service at 1-800-877-8337 for TTY assistance, 24 hours a day, 7 days a week.

SUPPLEMENTARY INFORMATION:

Background

We are publishing the final rule to remove the bald eagle from the Federal List of Threatened and Endangered Wildlife and Plants simultaneously with this notice elsewhere in today's Federal Register. Available data indicate that this species has recovered due to the Environmental Protection Agency's restrictions on organochlorine pesticides in the United States, and also due to implementation of successful management activities and protection of habitat under the Endangered Species Act of 1973, as amended (16 U.S.C. 1531 et seq.) (ESA).

Section 4(g)(1) of the ESA requires that we implement a system, in cooperation with the States, to effectively monitor for not less than 5 years, the status of all species that have been recovered and delisted. In order to meet the ESA's monitoring requirement, and to facilitate the efficient collection of data, we have designed a sampling method to be implemented by various States, capable of detecting substantial changes in the bald eagle population in the lower 48 states.

The draft bald eagle post-delisting monitoring plan was developed in cooperation with State resource agencies and interested scientists, and will be carried out by the Service's Monitoring Team in collaboration with Federal, State, Tribal, and private cooperators. The monitoring plan proposes to start in the winter of 2008 and spring of 2009. We will conduct surveys every 5 years over the next 20 years.

Monitoring will consist of the collection of information on numbers of nesting bald eagles in selected locations based on State participation and density of identified bald eagle nest sites. At the end of each 5-year monitoring event we will review all available information to determine the status of the bald eagle.

Information Collection

OMB Control Number: New.

Title: Bald Eagle Post-Delisting Monitoring Plan.

Service Form Number(s): 3-2343, 3-2344.

Type of Request: New.

Affected Public: State agencies, Federal, Tribal, private land managers, wildlife rehabilitators, and cooperators.

Respondent's Obligation: Voluntary.

Frequency of Collection: Once every 5 years for the Eagle and Nest Observation Checklist; on occasion for the Bald Eagle Mortality Report Form.

Activity | Number of respondents | Number of responses | Completion time per response (hours) | Annual burden hours
Eagle and Nest Observation Checklist (FWS form #3-2344) | 17 | 357 | 6.2 | 2,213
Bald Eagle Mortality Report Form (FWS form #3-2343) | 48 | 384 | 0.25 | 96
Total | 65 | 741 |  | 2,309

Viewing Documents

The complete file for the monitoring plan is available for inspection, by appointment, during normal business hours at our Rock Island Field Office, 1511 47th Avenue, Moline, Illinois; 309-757-5800 (phone). The comments and materials we receive on the monitoring plan during the comment period will be available for public inspection by appointment during normal business hours at the Rock Island Field Office and at our Ecological Services Field Offices in Spokane, Washington (509-893-8002), Phoenix, Arizona (602-242-0210), Jacksonville (904-232-2580) or Vero Beach, Florida (772-562-3909), Manhattan, Kansas (785-539-3474), and Annapolis, Maryland (772-562-3909). Call those offices to make arrangements to view documents.

Public Comments Solicited

We request comments on the draft bald eagle post-delisting monitoring plan. All comments received by the date specified above will be considered during preparation of the final PDM plan. We prefer to receive comments via e-mail, but you may submit your comments by the alternate methods mentioned above.

Please submit Internet comments to baldeaglePDM@fws.gov in ASCII file format and avoid the use of special characters or any form of encryption. Please also include “Bald Eagle Draft PDM Plan Comments” in the subject line of the message, and your full name and return address in the body of your message. Please note that the Internet address baldeaglePDM@fws.gov will be closed when the public comment period is closed.

We will take into consideration the relevant comments, suggestions, or objections that we receive by the comment due date indicated above in DATES. These comments, suggestions, or objections, and any additional information received may lead us to adopt a final PDM Plan that differs from this draft PDM Plan. Comments merely stating support or opposition to the draft PDM Plan without providing supporting data are not as helpful.

Public Availability of Comments

Before including your address, phone number, e-mail address, or other personal identifying information in your comment, you should be aware that your entire comment—including your personal identifying information—may be made publicly available at any time. While you can ask us in your comment to withhold your personal identifying information from public review, we cannot guarantee that we will be able to do so.

We also invite comments concerning this IC on:

(1) Whether the collection of information is necessary, including whether the information will have practical utility;

(2) The accuracy of our estimate of the burden for this collection of information;

(3) Ways to enhance the quality, utility, and clarity of the information to be collected; and

(4) Ways to minimize the burden of the collection of information on respondents.

Comments that you send about this IC are a matter of public record. We will include and/or summarize each comment in our request to OMB to approve this IC.

Authority: The authority for this action is the Endangered Species Act of 1973 (16 U.S.C. 1531 et seq.).

Dated: June 26, 2007.
H. Dale Hall,
Director, Fish and Wildlife Service.

[FR Doc. 07-4303 Filed 7-6-07; 8:45 am]

BILLING CODE 4310-55-P